DEPARTMENT OF VETERANS AFFAIRS

Veterans' Advisory Committee on Rehabilitation, Notice of Meeting

The Department of Veterans Affairs (VA) gives notice under the Federal Advisory Committee Act, that a meeting of the Veterans' Advisory Committee on Rehabilitation (VACOR) will be held virtually on Wednesday, August 19 and Thursday, August 20, 2020. The meeting sessions are open to the public and are from 10:00 a.m. to 3:00 p.m. EST.

The purpose of the Committee is to provide advice to the Secretary of VA on the rehabilitation needs of Veterans with disabilities and on the administration of VA's rehabilitation programs.

On August 19, 2020, Committee members will welcome members and provide briefings from the Doris Miller Department of Veterans Affairs Medical Center on various tele-health services designed to enhance the rehabilitation potential of Veterans, particularly Veterans in rural areas.

On August 20, 2020, Committee members will receive briefings from the Waco Regional Office on various virtual services designed to enhance the rehabilitation potential of Veterans. Committee members will discuss recommendations to be included in the Committee's next annual comprehensive report.

Time will be allocated for receiving oral comments from the public. Members of the public may submit written statements for review by the Committee to Latrese Arnold, Designated Federal Officer, Veterans Benefits Administration (28), 810 Vermont Avenue NW, Washington, DC 20420, or at Latrese.Arnold@va.gov. In the communication, writers must identify themselves and state the organization, association or person(s) they represent. Any member of the public who wishes to attend the virtual meeting must RSVP for details to Latrese Arnold at 202-461-9773 no later than close of business, Monday August 17, 2020, at the above phone number or email address.

Dated: July 20, 2020.
LaTonya L. Small,
Federal Advisory Committee Management Officer.

[FR Doc. 2020-16033 Filed 7-23-20; 8:45 am]

BILLING CODE P